COMMISSION ON CIVIL RIGHTS

Agenda and Notice of Public Meetings of the South Dakota Advisory Committee

AGENCY: Commission on Civil Rights.

ACTION: Announcement of meeting; postponement of meeting.

SUMMARY: Notice is hereby given, pursuant to the provisions of the rules and regulations of the U.S. Commission on Civil Rights (Commission), and the Federal Advisory Committee Act (FACA), that an emergency telephonic meeting of the South Dakota Advisory Committee to the Commission was convened at 2 p.m. on Thursday, August 18, 2016. The purpose of the emergency meeting was to discuss and vote to postpone briefing meeting on the “Subtle Effects of Racism in South Dakota,” scheduled for Thursday, August 25, 2016 in Aberdeen, SD. The reason for postponing the August 25 meeting is due to a police shooting in Aberdeen that is under state investigation.

DATES: The meeting scheduled for August 25, 2016 is postponed. A new date has not been set.

FOR FURTHER INFORMATION CONTACT: Malee Craft at mcraft@usccr.gov, or 303-866-1040.

SUPPLEMENTARY INFORMATION: Records and documents discussed during the meeting will be available for public viewing as they become available at https://database.faca.gov/committee/meetings.aspx?cid=274 and clicking on the “Meeting Details” and “Documents” links. Records generated from this meeting may also be inspected and reproduced at the Commission's Rocky Mountain Regional Office, as they become available, both before and after the meeting.

Additional notice is hereby given, pursuant to the provisions of the rules and regulations of the U.S. Commission on Civil Rights (Commission), and the Federal Advisory Committee Act (FACA), that the briefing meeting of the South Dakota Advisory Committee to the Commission scheduled for 1:00 p.m. on Thursday, August 25, 2016, in the Community Room on the 1st Floor of the Aberdeen Public Safety Building, 114 2nd Avenue SE., Aberdeen, SD 57401, HAS BEEN POSTPONED by a vote of the SD State Advisory Committee. The vote to postpone was due to a recent critical incident in the Aberdeen community. A subsequent meeting date has not been scheduled.

Exceptional Circumstance: Pursuant to the Federal Advisory Committee Management Regulations (41 CFR 102-3.150), the notice for this meeting is given less than 15 calendar days prior to the meeting due to exceptional circumstances. Given the exceptional urgency of the events, the agency and advisory committee deemed it important for the advisory committee to meet on the date given to discuss postponement of the August 25 briefing.

Dated: August 24, 2016.
Brian Walch,
Director, Communications and Public Engagement.

[FR Doc. 2016-20969 Filed 8-30-16; 8:45 am]

BILLING CODE 6335-01-P